NATIONAL FOUNDATION ON THE ARTS AND THE HUMANITIES

National Endowment for the Arts

National Council on the Arts 187th Meeting

AGENCY: National Endowment for the Arts, National Foundation on the Arts and the Humanities.

ACTION: Notice of meeting.

SUMMARY: Pursuant to section 10(a)(2) of the Federal Advisory Committee Act (Pub. L. 92-463), as amended, notice is hereby given that a meeting of the National Council on the Arts will be held in Conference Room 3063/3064 and Conference Rooms A & B at Constitution Center, 400 7th St. SW., Washington, DC 20506. Agenda times are approximate.

DATES: Wednesday, March 23, 2016 from 12:30 p.m. to 2:30 p.m. and Thursday, March 24, 2016 from 9:00 a.m. to 11:30 a.m.

FOR FURTHER INFORMATION CONTACT: Office of Public Affairs, National Endowment for the Arts, Washington, DC 20506, at 202/682-5570.

SUPPLEMENTARY INFORMATION: The meeting on March 23rd from 12:30 p.m. to 2:30 p.m., will be in Conference Room 3063/3064 and will be closed for discussion of National Medal of Arts nominations. The meeting on March 24th, in Conference Rooms A & B from 9:30 a.m. to 11:30 a.m., will be open to the public on a space available basis. The tentative agenda is as follows: The meeting will begin at 9:00 a.m. with opening remarks and voting on recommendations for funding and rejection and guidelines, followed by updates from the Chairman. There also will be the following presentations (times are approximate): From 9:30 a.m. to 9:45 a.m.—Presentation on 50th Anniversary videos (Jessamyn Sarmiento, Director of Public Affairs, NEA); from 9:45 a.m. to 10:15 a.m.—Presentation on IMPart at the Art League of Alexandria (Suzanne Bethel, Executive Director of the Art League of Alexandria); from 10:15 a.m.-10:45 a.m.—Presentation on “All the Way Home” (Marty Pottenger, Executive Director, Terra Moto Inc.); and from 10:45 a.m.-11:15 a.m.—Presentation on Hot Shop for Heroes Program (Deborah Lenk, Executive Director, Museum of Glass). From 11:00-11:15 there will be concluding remarks from the Chairman and announcement of voting results. The meeting will adjourn at 11:30 a.m.

The Thursday, March 24th session also will be webcast. To register to watch the webcasting of this open session of the meeting, go to http://artsgov.adobeconnect.com/nca-march2016-webcast/event/registration.html.

If, in the course of the open session discussion, it becomes necessary for the Council to discuss non-public commercial or financial information of intrinsic value, the Council will go into closed session pursuant to subsection (c)(4) of the Government in the Sunshine Act, 5 U.S.C. 552b, and in accordance with the February 15, 2012 determination of the Chairman. Additionally, discussion concerning purely personal information about individuals, such as personal biographical and salary data or medical information, may be conducted by the Council in closed session in accordance with subsection (c)(6) of 5 U.S.C. 552b.

Any interested persons may attend, as observers, Council discussions and reviews that are open to the public. If you need special accommodations due to a disability, please contact the Office of Accessibility, National Endowment for the Arts, 1100 Pennsylvania Avenue NW., Washington, DC 20506, 202/682-5733, Voice/T.T.Y. 202/682-5496, at least seven (7) days prior to the meeting.

Dated: February 29, 2016.
Kathy Plowitz-Worden,
Panel Coordinator, Office of Guidelines and Panel Operations.

[FR Doc. 2016-04665 Filed 3-2-16; 8:45 am]

BILLING CODE 7537-01-P